DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps

Dates and Times: January 4, 2007, 9 a.m.-5 p.m.; January 5, 2007, 9 a.m.-5 p.m.; and January 6, 2007, 9 a.m.-5 p.m.

Place: Embassy Suites DC Convention Center, 900 10th Street, NW., Washington, DC 20001.

Status: The meeting will be open to the public.

Agenda: The Council will be finalizing a report outlining some recommendations for the National Health Service Corps Program. Discussions will be focused on the impact of these recommendations on the program participants, communities served by these clinicians and in the administration of the program.

For Further Information Contact: Tira Robinson-Patterson, Division of National Health Service Corps, Bureau of Health Professions, Health Resources and Services Administration, Parklawn Building, Room 8A-55, 5600 Fishers Lane, Rockville, MD 20857; telephone: (301) 594-4140.

Dated: December 1, 2006.
Caroline Lewis,
Acting Associate Administrator for Administration and Financial Management.

[FR Doc. E6-20989 Filed 12-8-06; 8:45 am]

BILLING CODE 4165-15-P